FEDERAL TRADE COMMISSION

Granting of Request for Early Termination of the Waiting Period Under the premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7a(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—02/20/2001
20011507 | Advance Voting Trust | New York Times Company (The) | New York Times Company (The).
Transactions Granted Early Termination—02/21/2001
20011421 | Entergy Corporation | Consolidated Edison, Inc | Consolidated Edison, Inc.
20011462 | Gannett Co., Inc | Gannett Co., Inc | Hawaii Newspaper Agency Limited Partnership.
20011524 | Bombardier Inc | Quantum Industrial Holdings, Ltd | Outboard Marine Corporation.
Transactions Granted Early Termination—02/23/2001
20004614 | Lesaffre et Cie | Universal Foods Corporation | Red Star Yeast & Products.
20011234 | Compagnie Gernerale des Matieres, Nucleaires | Stonington Capital Appreciation 1994 Fund, L.P | Packard BioScience Company.
20011352 | National Grid Group plc | Niagara Mohawk Holdings, Inc | Niagara Mohawk Holdings, Inc.
20011456 | Maxim Integrated Products, Inc | Dallas Semiconductor Corporation | Dallas Semiconductor Corporation.
20011515 | WESCO International, Inc | Herning Enterprises, Inc | Herning Enterprises, Inc
Transactions Granted Early Termination—02/26/2001
20011360 | Vulcan Materials Company | Vulcan Materials Company | Vulcan/ICA Distribution Company.
20011387 | Finisar Corporation | Raymond and Elizabeth Marlow | Marlow Industries, Inc.
20011418 | Northern Border Partners, L.P | J.P. Morgan Chase & Co | Bear Paw Investments, LLC
20011446 | Southcorp Limited | Oatley Trust | Rosemount Estates Pty Ltd.
20011461 | 3799760 Canada Inc | BAE SYSTEMS plc | BAE SYSTEMS Canada, Inc.
20011476 | Jabil Circuit, Inc | Marconi plc | Marconi plc.
20011498 | UGI Corporation | NiSource Inc | Atlantic Energy, Inc. Columbia Propane Corporation. CPC Sub, L.L.C.
20011503 | IDEAL Industries, Inc | Letitia Corporation | High Voltage Engineering Corporation.
20011504 | TECO Energy, Inc | American Electric Power Company, Inc | Frontera Generation Limited Partnership.
0011506 | Nancy Jane Black Marcil | Red Wing Publishing Company | Red Wing Publishing Company.
20011508 | Marmon Holdings, Inc | Vahan Martirosian | Comtran Corporation.
20011509 | Marmon Holdings, Inc | John DeMarco | Comtran Corporation.
20011516 | Compass Group PLC | Morrison Management Specialist, Inc | Morrison Management Specialist, Inc.
20011517 | UGI Corporation | UGI Corporation | AmeriGas Propane, L.P.
20011518 | C&F Confectionery and Foods S.A | Stichting Administraiekantoor van Aandelen Van Melle N.V | Van Melle N.V.
20011532 | Vivendi Universal, S.A | Uproar, Inc | Uproar, Inc.
20011536 | Gerald W. Schwartz | Motorola, Inc | Motorola, Inc.
Transactions Granted Early Termination—02/27/2001
20011505 | Canadian Imperial Bank of Commerce | Global Payments Inc | Global Payments Inc.
20011511 | Tom T. Gores | The Williams Companies, Inc | Williams Communciations Solutions, LLC.
20011514 | SBC Communications Inc | Vivendi S.A | French American Cellular Investment Corp.
Transactions Granted Early Termination—02/28/2001
20011385 | Schneider Electric S.A | Legrand S.A | Legrand S.A.
20011455 | Emera Incorporated | Bangor Hydro—Electric Company | Bangor Hydro—Electric Company.
Transactions Granted Early Termination—03/01/2001
20011382 | Intel Corporation | Xircom, Inc | Xircom, Inc.
20011402 | Nextel Communciations, Inc | Arch Wireless, Inc | AWI Spectrum Co., LLC
20011522 | Schlumberger Limited | Sema plc | Sema plc.
Transactions Granted Early Termination—03/02/2001
20011373 | Michael S. Starnes | Swift Transportation Co., Inc | Swift Transportation Co., Inc.
20011420 | 1437414 Ontario Limited | Cascade Corporation | Cascade Corporation.
20011423 | Macromedia, Inc | Allaire Corporation | Allaire Corporation.
20011432 | France Telecom S.A | Equant N.V | Equant N.V.
20011531 | Lafayette Communications Company L.L.C | Carolina PCS I Limited Partnership | Carolina PCS I Limited Partnership.
20011538 | FreeMarkets, Inc | Adexa, Inc | Adexa, Inc.
20011547 | American Express Company | SierraCities.com Inc | SierraCities.com Inc.

FOR FURTHER INFORMATION CONTACT: Sandra M. Peay or Parcellena P. Fielding, Contact Representatives, Federal Trade Commission, Premerger Notification Office, Bureau of Competition, Room 303, Washington, DC 20580; (202) 326-3100.

By Direction of the Commission.
Donald S. Clark,
Secretary.

[FR Doc. 01-6837 Filed 3-19-01; 8:45 am]

BILLING CODE 6750-01-M